DEPARTMENT OF HEALTH AND HUMAN SERVICES

Substance Abuse and Mental Health Services Administration

Center for Substance Abuse Prevention; Notice of Meeting

Pursuant to Public Law 92-463, notice is hereby given of a SAMHSA Center for Substance Abuse Prevention (CSAP) National Advisory Council meeting to be held in May 2004.

The meeting will be open and include discussions on the Agency's Strategic Prevention Framework, Drug Testing Guidelines, and the HIV Rapid Drug Testing Initiative; a report on the Centers for the Application of Prevention Technologies; and updates on issues pertaining to CSAP's budget and its divisions.

A summary of this meeting, a roster of committee members and substantive program information may be obtained from Carol Watkins, Executive Secretary, Rockwall II Building, Suite 900, 5600 Fishers Lane, Rockville, Maryland 20857, telephone: (301) 443-9542.

Attendance by the public will be limited to space available. Public comments are welcome. Please communicate with the individual listed below to comment or to request special accommodations for persons with disabilities.

Committee Name: SAMHSA Center for Substance Abuse Prevention National Advisory Council.

Date/Time: OPEN, Wednesday, May 12, 2004, 9 a.m.-4 p.m.

Place: Doubletree Hotel, 1750 Rockville Pike, Rockville, Maryland, 20852; telephone (301) 368-1100.

Contact: Carol D. Watkins, Executive Secretary, 5600 Fishers Lane, Rockwall II Building, Suite 900, Rockville, Maryland 20857; telephone: (301) 443-9542.

Dated: April 27, 2004.
Toian Vaughn,
Committee Management Officer, Substance Abuse and Mental Health Services Administration (SAMHSA).

[FR Doc. 04-9974 Filed 4-30-04; 8:45 am]

BILLING CODE 4162-20-P